DEPARTMENT OF THE INTERIOR

Fish and Wildlife Service

Notice of Availability of Draft Comprehensive Conservation Plan and Environmental Assessment for Washington Islands National Wildlife Refuges (Flattery Rocks, Quillayute Needles, and Copalis NWRs)

AGENCY: Fish and Wildlife Service, Interior.

ACTION: Notice of Availability of Draft Comprehensive Conservation Plan and Environmental Assessment.

SUMMARY: The U.S. Fish and Wildlife Service (Service) announces that a Draft Comprehensive Conservation Plan and Environmental Assessment (Draft CCP/EA) for Flattery Rocks National Wildlife Refuge, Quillayute Needles National Wildlife Refuge, and Copalis National Wildlife Refuge is available for review and comment. These three National Wildlife Refuges located on the outer coast of the Olympic Peninsula in Washington State, are hereafter collectively called the Washington Islands Refuges or Refuges. This Draft CCP/EA, prepared pursuant to the National Wildlife Refuge System Administration Act, as amended, and the National Environmental Policy Act of 1969, describes the Service's proposal for management of the Washington Islands Refuges over the next 15 years. Also available for review with the Draft CCP/EA is a compatibility determination for research.

DATES: Written comments must be received at the address below by June 30, 2005.

ADDRESSES: Comments on the Draft CCP/EA should be addressed to: Kevin Ryan, Refuge Manager, Washington Maritime National Wildlife Refuge Complex, 33 S. Barr Road, Port Angeles, Washington, 98362, phone (360) 457-8451. Comments may also be submitted via electronic mail to FW1PlanningComments@fws.gov. Please use WA Islands Refuges CCP, in the subject line.

FOR MORE INFORMATION CONTACT: Kevin Ryan, Refuge Manager, at the address and phone number above, or Michael Marxen, Pacific Northwest Planning Team, 16507 Roy Rogers Road, Sherwood, Oregon, 97140, phone (503) 590-6596.

SUPPLEMENTARY INFORMATION: Copies of the Draft CCP/EA may be obtained by writing to Michael Marxen, Pacific Northwest Planning Team, 16507 Roy Rogers Road, Sherwood, Oregon, 97140. Copies of the Draft CCP/EA may be viewed at this address or at Washington Maritime National Wildlife Refuge Complex, 33 S. Barr Road, Port Angeles, Washington, 98362. The Draft CCP/EA will also be available for viewing and downloading online at http://pacific.fws.gov/planning. Printed documents will also be available for review at the following libraries: Aberdeen Library, Hoquiam Timberland Library, Jefferson County Library, Montesano Timberland Library, North Olympic Library (at locations in Clallam Bay, Port Angeles, Forks, and Sequim), Ocean Shores Library, Westport Timberland Library, and Seattle Public Library.

Background

The Washington Islands Refuges extend over 100 miles along the Pacific Coast and include more than 600 rocks, reefs, and islands. The Refuges are located in Clallam, Jefferson, and Grays Harbor Counties, Washington. The administrative center for the Washington Islands Refuges is the Washington Maritime National Wildlife Refuge Complex in Port Angeles, Washington. The Washington Islands Refuges are part of the National Wildlife Refuge System. This system of 544 refuges is managed by the Fish and Wildlife Service. The three Washington Islands Refuges are included in one planning process because they are part of the same ecosystem, and share many of the same issues and management opportunities.

The Washington Islands Refuges were established in 1907 by President Theodore Roosevelt “* * * as a preserve and breeding ground for native birds and animals.” Approximately 80% of the seabirds in Washington State nest within the Refuges. Because of the physical characteristics of these islands, landings and access are extremely hazardous. Since establishment, the Refuges have been closed to public entry to protect wildlife values and human safety. On October 23, 1970, the Washington Islands Wilderness was established by Pub. L. 92-504. This placed all of the Refuge islands, except for Destruction Island, under wilderness designation.

Proposed Action

The Service proposes to adopt and implement a Comprehensive Conservation Plan (CCP) to guide management of the three Washington Islands Refuges for approximately 15 years. The CCP identifies Refuge goals, long-range objectives, and strategies for achieving Refuge purposes. In the Draft CCP/EA, two alternatives for managing the Washington Islands Refuges are identified and evaluated. Alternative A, the “no action” or “status quo” alternative is the current management of the Refuges. Alternative B, the Aproposed action” describes management actions proposed to address current threats and opportunities. The alternatives are briefly described below.

Under Alternative A, the Service would continue to manage the Refuges under the management goals that were identified in the Refuges' 1989 Management Plan. Management actions to maintain habitat and provide protection for priority species including Federal and State listed species, and provide research opportunities and offsite wildlife-dependent recreational opportunities, would continue. New mandates related to refuge management enacted since 1989 would also be implemented.

Under Alternative B, the following goals have been developed to guide management of the refuges:

• Protect migratory birds and other native wildlife and their associated habitats, with special emphasis on seabirds.

• Protect and support the recovery of federally threatened and endangered species and Washington state special status species and their habitats.

• Protect and manage the Washington Islands Wilderness Area to maintain its wilderness character and values.

• Through effective coordination and cooperation with others, promote conservation of Refuge resources, with special emphasis on governmental agencies and tribes with adjoining ownership or jurisdiction.

• Continue to enhance long-term monitoring and sustain applied scientific research.

• Increase public interpretation and awareness programs to enhance appreciation, understanding, and enjoyment of Refuge resources.

Public Comments

With the publication of this notice, the public is encouraged to send written comments regarding the Draft CCP/EA for the Washington Islands Refuges. Public comments are requested, considered, and incorporated throughout the planning process in numerous ways. Public outreach has included meetings with State and Federal agencies and Tribes, planning update mailings, and Federal Register notices. After the review and comment period ends for this Draft CCP/EA, comments will be analyzed by the Service and addressed in revised planning documents.

All comments received from individuals, including names and addresses, become part of the official public record and may be released. Requests for such comments will be handled in accordance with the Freedom of Information Act, the Council on Environmental Quality's NEPA regulations [40 CFR 1506.6(f)] and other Service and Departmental policies and procedures.

Dated: May 5, 2005.
Don Weathers,
Acting Regional Director, Region 1, Portland, Oregon.

[FR Doc. 05-10298 Filed 5-27-05; 8:45 am]

BILLING CODE 4310-55-P